DEPARTMENT OF ENERGY

Federal Energy Regulatory Commission

Notice of Application for Amendment of License and Soliciting Comments, Motions To Intervene, and Protests

September 9, 2008.

a. Type of Application: Non-project use of project lands and waters.

b. Project Number: 2210-179.

c. Date Filed: August 22, 2008.

d. Applicant: Appalachian Power Company.

e. Name of Project: Smith Mountain Lake Hydroelectric Project.

f. Location: The project is located in Pittsylvania, Bedford, Franklin, and Roanoke Counties, Virginia. The proposed action would occur in Bedford County just north of the town of Kasey along Craddock Creek.

g. Filed Pursuant to: Federal Power Act, 16 U.S.C. 791 (a) 825(r) and 799 and 801.

h. Applicant Contact: Ms. Elizabeth Parcell, Appalachian Power Company, 996 Old Franklin Turnpike, Rocky Mount, VA 24151, phone: (540) 489-2540.

i. FERC Contact: Any questions on this notice should be addressed to Christopher Yeakel at (202) 502-8132, or e-mail address: christopher.yeakel@ferc.gov.

j. Deadline for filing comments and or motions: October 10, 2008.

k. Description of Request: Appalachian Power Company requests approval to permit Mr. Donnie Crist to dredge approximately 489 cubic yards of sediment from the area around a private boat dock. The dredge area would include the area around and beneath the dock and would extend approximately 150 feet from the dock into the main channel of the cove. The dimensions of the dredge area would be about 150 feet by 62 feet. The dredged material will be deposited on upland property outside of the project boundary.

l. Locations of the Application: A copy of the application is available for inspection and reproduction at the Commission's Public Reference Room, located at 888 First Street, NE., Room 2A, Washington, DC 20426, or by calling (202) 502-8371. This filing may also be viewed on the Commission's Web site at http://www.ferc.gov using the “eLibrary” link. Enter the docket number excluding the last three digits in the docket number field (p-2210) to access the document. You may also register online at http://www.ferc.gov/docs-filing/esubscription.asp to be notified via e-mail of new filings and issuances related to this or other pending projects. For assistance, call 1-866-208-3372 or e-mail FERCOnlineSupport@ferc.gov, for TTY, call (202) 502-8659. A copy is also available for inspection and reproduction at the address in item (h) above.

m. Individuals desiring to be included on the Commission's mailing list should so indicate by writing to the Secretary of the Commission.

n. Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents—Any filings must bear in all capital letters the title “COMMENTS”, “RECOMMENDATIONS FOR TERMS AND CONDITIONS”, “PROTEST”, OR “MOTION TO INTERVENE”, as applicable, and the Project Number of the particular application to which the filing refers (p-2210-179). All documents (original and eight copies) should be filed with: The Secretary, Federal Energy Regulatory Commission, 888 First Street, NE., Washington, DC 20426. A copy of any motion to intervene must also be served upon each representative of the Applicant specified in the particular application.

p. Agency Comments—Federal, state, and local agencies are invited to file comments on the described application. A copy of the application may be obtained by agencies directly from the Applicant. If an agency does not file comments within the time specified for filing comments, it will be presumed to have no comments. One copy of an agency's comments must also be sent to the Applicant's representatives.

q. Comments, protests and interventions may be filed electronically via the Internet in lieu of paper. See, 18 CFR 385.2001(a)(1)(iii) and the instructions on the Commission's Web site at http://www.ferc.gov under the “e-Filing” link.

Kimberly D. Bose,
Secretary.

[FR Doc. E8-21541 Filed 9-15-08; 8:45 am]

BILLING CODE 6717-01-P